DEPARTMENT OF DEFENSE

Department of the Army, Corps of Engineers

Intent To Grant an Exclusive License for a U.S. Army Owned Invention to Integrated Composite Construction Systems, LLC

AGENCY: Department of the Army, U.S. Army Corps of Engineers, DoD.

ACTION: Notice.

SUMMARY: The Department of the Army announces that, unless there is an objection, after 15 days it intends to grant an exclusive license to Integrated Composite Construction Systems, LLC., a corporation having a place of business in Culpepper, VA on United States Patent No. 8,016,938 entitled “Structures and Components Comprising Blast Resistant Concrete also Suitable for Limiting Penetration of Ballistic Fragments,” issued September 13, 2011.

DATES: Written objections must be filed within 15 days from the publication date of this notice in the Federal Register.

FOR FURTHER INFORMATION CONTACT: U.S. Army Engineer Research and Development Center, ATTN: CEERD-ZBT-C (Ms. Sandra K. Fairley), 3909 Halls Ferry Road, Vicksburg, MS 39180-61996, Voice: 601-634-3391, Email: Sandra.K.Fairley@usace.army.mil.

SUPPLEMENTARY INFORMATION: Any license granted shall comply with 35 U.S.C. 209 and 37 CFR part 404.

Brenda S. Bowen,
Army Federal Register Liaison Officer.

[FR Doc. 2018-24344 Filed 11-6-18; 8:45 am]

BILLING CODE 3720-58-P